DEPARTMENT OF HEALTH AND HUMAN SERVICES

Office of the National Coordinator for Health Information Technology

ACTION: Notification of the Establishment of the HIT Policy Committee.

SUMMARY: This notice announces the establishment of the HIT Policy Committee. The American Recovery and Reinvestment Act of 2009 (Pub. L. 111-5), section 13101, directs the establishment of the HIT Policy Committee. The HIT Policy Committee (also referred to as the “Committee”) is charged with recommending to the National Coordinator a policy framework for the development and adoption of a nationwide health information technology infrastructure that permits the electronic exchange and use of health information as is consistent with the Federal Health IT Strategic Plan and that includes recommendations on the areas in which standards, implementation specifications, and certification criteria are needed. The HIT Policy Committee is also charged with recommending to the National Coordinator an order of priority for the development, harmonization, and recognition of such standards, specifications, and certification criteria.

FOR FURTHER INFORMATION CONTACT: Judith Sparrow, Office of the National Coordinator for Health Information Technology, e-mail judy.sparrow@hhs.gov or 202-205-4528.

SUPPLEMENTARY INFORMATION:

I. Background

The Committee and its staff are governed by the provisions of the Federal Advisory Committee Act (FACA) (Pub. L. 92-463), as amended (5 U.S.C. App.), which sets forth standards for the formation and use of federal advisory committees.

The Committee shall determine a schedule of meetings following an election of a Chairperson and a Vice Chairperson from among its members.

II. Criteria for Members

The Committee shall be comprised of the following, including a Chair and Vice Chair, and represent a balance among various sectors of the health care system so that no single sector unduly influences the recommendations of the Committee. Committee members shall be appointed in the following manner:

• 3 members shall be appointed by the Secretary of Health and Human Services, 1 of whom shall be appointed to represent the Department of Health and Human Services and 1 of whom shall be a public health official;

• 1 member shall be appointed by the majority leader of the Senate;

• 1 member shall be appointed by the minority leader of the Senate;

• 1 member shall be appointed by the Speaker of the House of Representatives;

• 1 member shall be appointed by the minority leader of the House of Representatives;

• Such other members as shall be appointed by the President as representatives of other relevant Federal agencies;

• 13 members shall be appointed by the Comptroller General of the United States of whom-

○ 3 members shall be advocates for patients or consumers;

○ 2 members shall represent health care providers, one of which shall be a physician;

○ 1 member shall be from a labor organization representing health care workers;

○ 1 member shall have expertise in health information privacy and security;

○ 1 member shall have expertise in improving the health of vulnerable populations;

○ 1 member shall be from the research community;

○ 1 member shall represent health plans or other third-party payers;

○ 1 member shall represent information technology vendors;

○ 1 member shall represent purchasers or employers; and

○ 1 member shall have expertise in health care quality measurement and reporting.

Non-federal members of the Committee shall be Special Government Employees, unless classified as representatives.

III. Copies of the Charter

To obtain a copy of the Committee's charter, submit a written request to the above contact.

Dated: April 23, 2009.
David Blumenthal,
National Coordinator for Health Information Technology, Office of the National Coordinator for Health Information Technology.

[FR Doc. E9-9839 Filed 4-24-09; 4:15 pm]

BILLING CODE 4150-45-P